NATIONAL COUNCIL ON DISABILITY

Sunshine Act Meetings

TIME AND DATES: The Members of the National Council on Disability (NCD) will hold a quarterly meeting on Monday, April 22, 2013, 1:00 p.m.-5:15 p.m. (EDT), and Tuesday, April 23, 2013, 8:30 a.m.-12:00 p.m. Noon (EDT).

PLACE: The meeting will occur at the Access Board Conference Room, 1331 F Street NW., Suite 800, Washington, DC. Interested parties may join the meeting in person or may join by phone in a listening-only capacity (with the exception of the public comment period) using the following call-in number: 1-888-727-7630; passcode 5450168. If asked, the call host's name is Stacey Brown.

MATTERS TO BE CONSIDERED: On Monday afternoon, the Council will receive a presentation from its Policy Development and Program Evaluation Committee regarding a potential policy roadmap for the Council's policy engagement for the remainder of Fiscal Year 2013, Fiscal Year 2014, and Fiscal Year 2015, utilizing a framework of “investing in independence,” leading up to the 25th anniversary of the Americans with Disabilities Act (ADA). The meeting on Monday will conclude with a period for public comment. On Tuesday, the Council will receive reports from the Executive Director and the Chairperson as well as an overview of its planned afternoon Congressional Forum on voting access, to be held on Capitol Hill. The Council will then receive public comment specifically focused on how NCD should engage on the United Nations Convention on the Rights of Persons with Disabilities (CRPD). The Council will then receive reports from its standing committees (Audit and Finance Committee regarding the FY15 budget; Governance Committee regarding the NCD strategic plan; Policy Development and Program Evaluation Committee regarding the policy roadmap), followed by a final brief period for public comment.

The times provided below are approximations for when each agenda item is anticipated to be discussed (all times Eastern):

Monday, April 22:

1:00-1:15 p.m. Welcome and Introductions

1:15-1:30 p.m. Overview of Afternoon Activities

1:30-3:30 p.m. Policy Roadmap Discussion

3:45-4:45 p.m. Policy Roadmap Discussion continued

4:45-5:15 p.m. Public Comment (phone and in-person; all topics)

Tuesday, April 23:

8:30-9:30 a.m. Introduction of NCD Members and Staff; Chairperson's Report; Executive Director's Report; Congressional Forum Overview

9:30-10:00 a.m. Public Comment (in-person only; limited to how NCD should engage on the United Nations Convention on the Rights of Persons with Disabilities (CRPD))

10:15-11:45 a.m. Committee Reports (Audit & Finance; Governance; Policy Development and Program Evaluation)

11:45 a.m.-12:00 p.m. Public Comment (phone and in-person; all topics)

PUBLIC COMMENT: NCD will receive public comment by phone and in person during the Council meeting at the following times:

Monday, April 22:

4:45-5:15 p.m. Public Comment (phone and in-person; all topics)

Tuesday, April 23:

9:30-10:00 a.m. Public Comment (in-person only; limited to how NCD should engage on the United Nations Convention on the Rights of Persons with Disabilities (CRPD))

11:45 a.m.-12:00 p.m. Public Comment (phone and in-person; all topics)

Any individuals interested in providing public comment by phone or in-person will be asked to provide their names and their organizational affiliations, if applicable, and to limit their comments to three minutes. Individuals may also provide public comment by sending their comments in writing to Lawrence Carter-Long, Public Affairs Specialist, at lcarterlong@ncd.gov, using the subject line of “Public Comment.”

CONTACT PERSON FOR MORE INFORMATION: Anne Sommers, NCD, 1331 F Street NW., Suite 850, Washington, DC 20004; 202-272-2004 (V), 202-272-2074 (TTY).

ACCOMMODATIONS: A CART streamtext link has been arranged for each day of the board meeting. For Monday, beginning at 1:00 p.m., EDT, the web link to access CART is http://www.streamtext.net/text.aspx?event=042213ncd100pm. For Tuesday, beginning at 8:30 a.m., EDT, the web link to access CART is http://www.streamtext.net/text.aspx?event=042313ncd830am. Those who plan to attend the meeting in person and require accommodations should notify NCD as soon as possible to allow time to make arrangements.

Please note: To help reduce exposure to fragrances for those with multiple chemical sensitivities, NCD requests that all those attending the meeting in person please refrain from wearing scented personal care products such as perfumes, hairsprays, colognes, and deodorants.

Dated: April 4, 2013.
Julie Carroll,
Interim Executive Director.

[FR Doc. 2013-08202 Filed 4-4-13; 4:15 pm]

BILLING CODE 6820-MA-P